SECURITIES AND EXCHANGE COMMISSION

[500-1]

In the Matter of: BBJ Environmental Technologies, Inc.; Order of Suspension of Trading

January 22, 2009.

It appears to the Securities and Exchange Commission that there is a lack of current and accurate information concerning the securities of BBJ Environmental Technologies, Inc. (“BBJ Technologies”) because it has not filed a periodic report since its 10-QSB/A for the quarterly period ending September 30, 2004, filed on April 6, 2006.

The Commission is of the opinion that the public interest and the protection of investors require a suspension of trading in the securities of BBJ Technologies. Therefore, it is ordered, pursuant to Section 12(k) of the Securities Exchange Act of 1934, that trading in BBJ Technologies securities is suspended for the period from 9:30 a.m. EST on January 22, 2009, through 11:59 p.m. EST on February 4, 2009.

By the Commission.
Jill M. Peterson,
Assistant Secretary.

[FR Doc. E9-1691 Filed 1-22-09; 4:15 pm]

BILLING CODE 8011-01-P